ENVIRONMENTAL PROTECTION AGENCY

[FRL-11586-02-OW]

Deepwater Horizon Natural Resource Damage Assessment Florida Trustee Implementation Group Final Restoration Plan 3 and Environmental Assessment: Water Quality and Finding of No Significant Impact

AGENCY: Environmental Protection Agency (EPA).

ACTION: Notice of availability.

SUMMARY: The Deepwater Horizon (DWH) natural resource Trustees for the Florida Trustee Implementation Group (Florida TIG) have prepared the Final Restoration Plan 3 and Environmental Assessment: Water Quality (Final RP3/EA) and Finding of No Significant Impact (FONSI). The Final RP3/EA proposes alternatives to help restore water quality impacted by the DWH oil spill. The Final RP3/EA evaluates a reasonable range of thirteen project alternatives under the Oil Pollution Act (OPA), including criteria set forth in the OPA natural resource damage assessment (NRDA) regulations, and the National Environmental Policy Act (NEPA) and its implementing regulations. A no action alternative is also evaluated pursuant to the NEPA. In the Final RP3/EA the Florida TIG selects eleven project alternatives under the Water Quality Restoration Type for funding and implementation. The total estimated cost to implement the selected projects is approximately $111.5 million. The purpose of this notice is to inform the public of the availability of the Final RP3/EA and FONSI.

ADDRESSES: Obtaining Documents: You may view and download the Final RP3/EA and FONSI at https://www.gulfspillrestoration.noaa.gov/restoration-areas/florida. You may also request a flash drive containing the Final RP3/EA and FONSI (see FOR FURTHER INFORMATION CONTACT).

FOR FURTHER INFORMATION CONTACT:

Sarah Ketron, Florida Department of Environmental Protection; telephone number: (850) 245-2167; email address: Sarah.Ketron@FloridaDEP.gov.

Tripp Boone, Environmental Protection Agency; telephone number: (228) 209-7555; email address: Boone.Tripp@epa.gov.

SUPPLEMENTARY INFORMATION:

Introduction

On April 20, 2010, the mobile offshore drilling unit Deepwater Horizon, which was drilling a well for BP Exploration and Production, Inc., experienced a significant explosion, fire, and subsequent sinking in the Gulf of Mexico, resulting in the release of millions of barrels of oil and other discharges into the Gulf. Under the authority of the OPA, designated Federal and State Trustees, acting on behalf of the public, assessed the injuries to natural resources and prepared the Deepwater Horizon Oil Spill Final Programmatic Damage Assessment and Restoration Plan and Final Programmatic Environmental Impact Statement (Final PDARP/PEIS), and the Record of Decision for the Deepwater Horizon Oil Spill Final Programmatic Damage Assessment and Restoration Plan and Final Programmatic Environmental Impact Statement, which sets forth the governance structure and process for DWH restoration planning under the OPA NRDA regulations. On April 4, 2016, the United States District Court for the Eastern District of Louisiana entered a Consent Decree resolving civil claims by the trustees against BP.

The Florida TIG, which is composed of the State of Florida Department of Environmental Protection and the Fish and Wildlife Conservation Commission, the U.S. Environmental Protection Agency, the U.S. Department of the Interior, the National Oceanic and Atmospheric Administration, and the U.S. Department of Agriculture, selects and implements restoration projects under the Florida TIG's management authority in accordance with the Consent Decree. The Final PDARP/PEIS, Record of Decision, Consent Decree, and information on the DWH Trustees can be found at https://www.gulfspillrestoration.noaa.gov/restoration-planning/gulf-plan.

Background

On November 7, 2022, the Florida TIG issued a notice of solicitation on the Gulf Spill Restoration website requesting project ideas for the Water Quality Restoration Type as described in the Final PDARP/PEIS. On August 7, 2023, the Florida TIG announced on the Gulf Spill Restoration website that they reviewed project idea submissions and initiated drafting the RP3/EA which tiers from the Final PDARP/PEIS and would include a reasonable range of restoration project alternatives for the Water Quality Restoration Type.

The Florida TIG released the Draft RP3/EA for public review and comment on March 8, 2024, and published a Notice of Availability in the Federal Register (89 FR 16765). The comment period ran through April 8, 2024. To facilitate public understanding of the document, the Florida TIG held a webinar on March 27, 2024, during which public comments were solicited. After the public review period closed, the Florida TIG reviewed the comments received, prepared responses to those comments, finalized the RP3/EA, and prepared a FONSI.

Overview of the Florida TIG Final RP3/EA

In the Final RP3/EA, the Florida TIG analyzes a reasonable range of thirteen project alternatives and, pursuant to the NEPA, a no action alternative. Two of the alternatives analyzed are not preferred by the Florida TIG at this time. The eleven projects selected by the Florida TIG for funding and implementation are listed below:

1. Pensacola and Perdido Watersheds Microbial Source Tracking (Planning);

2. Pensacola Bay Unpaved Roads Initiative Phase 2 (Planning);

3. Carpenter Creek Hydrologic Restoration and Stormwater Improvements;

4. Hollice T. Williams Stormwater Park;

5. Gulf Breeze Septic to Sewer Conversion;

6. Santa Rosa County Septic to Sewer Conversion;

7. Choctawhatchee Bay Unpaved Roads Initiative;

8. Telogia Creek Watershed Water Quality Improvements;

9. Lower Suwannee National Wildlife Refuge Hydrologic Restoration Phase 2 (Planning);

10. Bond Farm Hydrologic Enhancement Impoundment; and

11. Bond Farm Hydrologic Enhancement Southwest Discharge Structure (Planning).

The total estimated cost to implement the eleven selected project alternatives is approximately $111.5 million and will utilize funding from the Florida TIG's Water Quality Restoration Type. Additional restoration planning in the Florida TIG will continue.

Administrative Record

The Administrative Record for the Final RP3/EA can be viewed electronically at https://www.doi.gov/deepwaterhorizon/adminrecord under the folder 6.5.4.2.6.

Authority

The authority for this action is the Oil Pollution Act of 1990 (33 U.S.C. 2701 et seq.), its implementing NRDA regulations found at 15 CFR part 990, and the National Environmental Policy Act of 1969 (42 U.S.C. 4321 et seq.), its implementing regulations found at 40 CFR parts 1500-1508.

Benita Best-Wong,
Deputy Assistant Administrator.

[FR Doc. 2024-14693 Filed 7-5-24; 8:45 am]

BILLING CODE 6560-50-P